DEPARTMENT OF TRANSPORTATION

National Highway Traffic Safety Administration

Denial of Motor Vehicle Recall Petition, RP01-001

AGENCY: National Highway Traffic Safety Administration (NHTSA), Department of Transportation.

ACTION: Denial of petition for a hearing on the adequacy of recall notification.

SUMMARY: This notice sets forth the reasons for the denial of a petition submitted to NHTSA under 49 U.S.C. 30162, requesting that the agency hold a Public Hearing to determine whether General Motors Corporation (GM) has reasonably met its obligation to notify owners of NHTSA Safety Recall No. 00V-189. The petition is identified as RP01-001.

FOR FURTHER INFORMATION CONTACT: Mr. Jonathan White, Office of Defects Investigation (ODI), NHTSA, 400 Seventh Street, SW., Washington, DC 20590. Telephone: (202) 366-5226.

SUPPLEMENTARY INFORMATION: Mr. Franklin Walter Long, Jr., of Detroit, MI, submitted a petition to NHTSA by facsimile dated October 24, 2001, requesting that the agency hold a Public Hearing to determine whether GM has reasonably met its obligation to notify him of NHTSA Safety Recall No. 00V-189 with respect to his model year 1991 Oldsmobile Cutlass Supreme. The petitioner alleges that GM did not notify him of NHTSA Safety Recall No. 00V-189.

ODI has reviewed its records for this recall, which involved more than 700,000 vehicles, and no other individuals have expressed any concerns to NHTSA regarding notification. When a motor vehicle manufacturer conducts a safety recall, it is required by 49 U.S.C. 30119 to use its records and State motor vehicle records to identify owners of the vehicles covered by the recall. According to records provided by GM, Northern Michigan Loan, Inc., was notified of this recall on September 28, 2000. That entity apparently was identified as the registered owner of the vehicle at that time. Subsequently, Mr. Long was mailed an owner notification with respect to this recall on March 8, 2002. Furthermore, GM has advised NHTSA that it has taken steps to buy back the petitioner's vehicle.

In view of the foregoing, it is unlikely that NHTSA would issue an order to GM regarding the adequacy of the notification under this recall following a hearing such as the one the petitioner requested. Therefore, in view of the need to allocate and prioritize NHTSA's limited resources to best accomplish the agency's safety mission, the petition is denied.

Authority: 49 U.S.C. 30162(d); delegations of authority at CFR 1.50 and 501.8.

Issued on: June 18, 2002.
Kenneth N. Weinstein,
Associate Administrator for Safety Assurance.

[FR Doc. 02-15798 Filed 6-21-02; 8:45 am]

BILLING CODE 4910-59-P